DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2006, there were nine applications approved. This notice also includes information on three applications, approved in March 2006, inadvertently left off the March 2006 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph (d) of § 158.29.

PFC Applications Approved

Public Agency: Mobile Airport Authority, Mobile, Alabama.

Application Number: 06-05-C-00-MOB.

Application Type: Impose and use a PFC.

PFC Level: $3.00.

Total PFC Revenue Approved in This Decision: $2,619,470.

Earliest Charge Effective Date: June 1, 2006.

Estimated Charge Expiration Date: February 1, 2009.

Class of Air Carriers Not Required to Collect PFC's:

Air taxi/commercial operators filing FAA Form 1800-31.

Determination: Approved. Based on information submitted in the public agency's application, the FAA has determined that the proposed class accounts for less than 1 percent of the total annual enplanements at Mobile Regional Airport.

Brief Description of Projects Approved for Collection and Use:

Security equipment.

Aircraft rescue and firefighting building.

Guidance signs.

Overlay taxiway A.

Overlay portions of runway 14/32.

Security vehicle.

Sweepers.

Land acquisition phase I.

Communication system.

Security vehicle.

Land acquisition phase II.

Land acquisition phase III.

Aircraft rescue and firefighting vehicle.

Security vehicle.

Land acquisition phase IV group A.

Jet Bridge No. 4.

Benefit cost analysis.

Land acquisition phase IV group D.

Airlock doors.

Blast analysis.

Terminal building emergency generator.

Relocate customer service center.

Rehabilitate taxiway A connectors and portions of taxiway C.

Miscellaneous security.

Storm drain repair.

CTX cameras.

T-5 circuit, precision approach path indicators and windcone.

Infield service road phase I.

Snozzle camera.

Terminal renovations.

Install carpet on second floor.

Install handrails on lobby stairs.

Jet bridge No. 2.

Install water fountains.

Security vehicles.

Security system rehabilitation pre-engineering.

Sweepers.

Land acquisition south runway protection zone.

Terminal drive directions/regulatory signs.

Air handlers 5, 6, and 7.

Replace security system—construction.

Jet bridges nos. 1 and 3.

Rehabilitate taxiway A—paving and medium intensity taxiway lighting design.

Airport storm drain study.

Land acquisition south runway protection zone—2.

Passenger seating.

Air handlers 1, 4, and 11 design.

Rehabilitate airport road east design.

Rehabilitate airport road west design.

Rehabilitate terminal drive design.

Medical elevator design.

Hurricane repair.

Rehabilitate airport road east construction.

Rehabilitate terminal drive construction.

Rehabilitate airport road west construction.

Lightening protection upgrades.

Banister handrails—Americans with Disabilities Act compliance.

Check-in conveyors design.

Install boarding canopy and ramp.

Terminal building sprinkler system design.

Air handlers 1, 4, 8, and 11 construction.

Terminal concourse window tinting.

Medical elevator construction.

External fire escape.

Replace heating, air conditioning, and ventilation construction.

Terminal building sprinkler system construction.

Taxiway L rehabilitation.

Infield service road phase 2 design.

Land acquisition south runway protection zone parcel 10-0052 and north runway protection zone parcel 46.

Rehabilitate taxiway A construction.

Infield service road phase 2 construction.

Infield service road phase 3 design.

Land acquisition south runway protection zone—apartment complex.

Improve airfield drainage.

Airfield storm drain repair.

Airport layout plan update.

Infield service road phase 3 construction.

Clear and fence 12-foot culvert.

Quick response aircraft rescue and firefighting vehicle.

Security vehicle.

Aircraft rescue and firefighting building generator.

Airfield sweeper.

Decision Date: March 1, 2006.

FOR FURTHER INFORMATION CONTACT: William Schuler, Jackson Airports District Office, (601) 664-9900.

Public Agency: Cedar Rapids Airport Commission, Cedar Rapids, Iowa.

Application Number: 06-04-C-00-CID.

Application Type: Impose and use a PFC.

PFC Level: $4.50.

Total PFC Revenue Approved in This Decision: $8,554,708.

Earliest Charge Effective Date: June 1, 2006.

Estimated Charge Expiration Date: July 1, 2010.

Class of Air Carriers Not Required to Collect PFC's:

Air taxi/commercial operators.

Determination: Approved. Based on information submitted in the public agency's application, the FAA has determined that the proposed class accounts for less than 1 percent of the total annual enplanements at The Eastern Iowa Airport.

Brief Description of Projects Approved for Collection and Use:

Rehabilitate taxiway lighting.

Improve airport drainage runway 9/27.

Rehabilitate taxiway C north.

Install runway sensors.

Reconstruct east end of runway 9/27.

Upgrade security access system.

Purchase aircraft rescue and firefighting vehicles.

Rehabilitate west end of runway 9/27.

Brief Description of Projects Approved for Collection:

Renovate terminal building—inline bag screening.

Construct aircraft rescue and firefighting building.

Brief Description of Withdrawn Projects:

Reconstruct runway 9/27 intersection with runway 13/31.

Renovate terminal building—B concourse, security check point.

Construct taxiway B.

Determination: These projects were withdrawn by the public agency on December 15, 2005. Therefore, the FAA did not rule on these projects in this decision.

Decision Date: March 23, 2006.

FOR FURTHER INFORMATION CONTACT: Lorna Sandridge, Central Region Airports Division, (816) 329-2641.

Public Agency: Greater Peoria Airport Authority, Peoria, Illinois.

Application Number: 06-03-C-PIA.

Application Type: Impose and use a PFC.

PFC Level: $4.50.

Total PFC Revenue Approved in This Decision: $1,476,770.

Earliest Charge Effective Date: February 1, 2007.

Estimated Charge Expiration Date: August 1, 2008.

Class of Air Carriers Not Required to Collect PFC's:

Nonscheduled/on-demand operators filing FAA Form 1800-31.

Determination: Approved. Based on information submitted in the public agency's application, the FAA has determined that the proposed class accounts for less than 1 percent of the total annual enplanements at Greater Peoria Regional Airport.

Brief Description of Projects Approved for Collection and Use:

Security enhancements.

Land reimbursement.

Security enhancements/security identification display area doors.

Airport layout plan update.

Terminal study.

Parking lot improvements.

Prepare PFC application.

Decision Date: March 24, 2006.

FOR FURTHER INFORMATION CONTACT: Denis Rewerts, Chicago Airports District Office, (847) 294-7195.

Public Agency: State of Alaska, Department of Transportation and Public Facilities, Juneau, Alaska.

Application Number: 06-02-C-00-FAI.

Application Type: Impose and use a PFC.

PFC Level: $4.50.

Total PFC Revenue Approved in This Decision: $33,217,000.

Earliest Charge Effective Date: October 1, 2006.

Estimated Charge Expiration Date: October 1, 2026.

Class of Air Carriers Not Required to Collect PFC's:

None.

Brief Description of Projects Approved for Collection and Use:

Snow removal equipment.

Terminal renovation and expansion.

Decision Date: April 4, 2006.

for further information contact: Matthew Freeman, Alaska Region Airports Division, (907) 271-5455.

Public Agency: County of Clark, Las Vegas, Nevada.

Application Number: 06-06-C-00-LAS.

Application Type: Impose and use a PFC.

PFC Level: $4.50.

Total PFC Revenue Approved in This Decision: $631,780,500.

Earliest Charge Effective Date: October 1, 2023.

Estimated Charge Expiration Date: March 1, 2028.

Class of Air Carriers Not Required to Collect PFC's:

Nonscheduled/on-demand air carriers filing FAA Form 1800-31.

Determination: Approved. Based on information submitted in the public agency's application, the FAA has determined that the proposed class accounts for less than 1 percent of the total annual enplanements at McCarran International Airport.

Brief Description of Projects Approved for Collection and Use at a $4.50 PFC Level:

Northeast wing concourse D.

Northwest wing concourse D.

Decision Date: April 12, 2006.

for further information contact: Joe Rodriguez, San Francisco Airports District Office, (650) 876-2778, extension 610.

Public Agency: City of Killeen, Texas.

Application Number: 06-01-C-00-GRK.

Application Type: Impose and use a PFC.

PFC Level: $4.50.

Total PFC Revenue Approved in This Decision: $2,713,561.

Earliest Charge Effective Date: June 1, 2006.

Estimated Charge Expiration Date: March 1, 2010.

Class of Air Carriers Not Required to Collect PFC's:

Part 135 charter operators.

Determination: Approved. Based on information submitted in the public agency's application, the FAA has determined that the proposed class accounts for less than 1 percent of the total annual enplanements at Killeen-Fort Hood Regional Airport.

Brief Description of Projects Approved for Collection and Use:

Terminal facility site work and utilities phase II.

Passenger terminal building and apron phase II.

Taxiway and runway safety area improvements.

Apron expansion and safety improvements.

Security system improvements.

Procure and install passenger boarding bridges.

Procure sweeper.

Procure portable air stairs.

Airport signage improvements.

Administrative expenses.

Brief Description of Disapproved Project:

Procure aircraft towing vehicle.

Determination: The FAA determined that this project did not meet the requirements of § 158.15.

Decision Date: April 12, 2006.

for further information contact: Paul Blackford, Southwest Region Airports Division, (817) 222-5607.

Public Agency: Government of American Samoa, Pago Pago, American Samoa.

Application Number: 06-03-C-00-PPG.

Application Type: Impose and use a PFC.

PFC Level: $4.50.

Total PFC Revenue Approved in This Decision: $5,848.954.

Earliest Charge Effective Date: June 1, 2006.

Estimated Charge Expiration Date: December 1, 2020.

Class of Air Carriers Not Required to Collect PFC's:

None.

Brief Description of Projects Approved for Collection at PAGO PAGO International Airport (PPG) and Use at PPG:

Extend runway 5/23.

Rehabilitate runway 5/23.

Construct miscellaneous security improvements.

Construct aircraft rescue and firefighting building.

Acquire three aircraft rescue and firefighting vehicles.

Construct aircraft rescue and firefighting training pit.

Terminal improvements.

Install one loading bridge.

Brief Description of Projects Approved for Collection at PPG and Use at Fitiuta Airport:

Extend runway 12/30.

Brief Description of Projects Approved for Collection at PPG and Use at OFU Airport:

Conduct airport master plan study.

Decision Date: April 19, 2006.

FOR FURTHER INFORMATION CONTACT: Gordon Wong, Honolulu Airports District Office, (808) 541-3565.

Public Agency: Massachusetts Port Authority, Boston, Massachusetts.

Application Number: 06-04-C-00-BOS.

Application Type: Impose and use a PFC.

PFC Level: $4.50.

Total PFC Revenue Approved in This Decision: $293,018,000.

Earliest Charge Effective Date: February 1, 2011.

Estimated Charge Expiration Date: February 1, 2016.

Class of Air Carriers Not Required to Collect PFC's:

Nonscheduled/on-demand air carriers.

Determination: Approved. Based on information submitted in the public agency's application, the FAA has determined that the proposed class accounts for less than 1 percent of the total annual enplanements at General Edward Lawrence Logan International Airport.

Brief Description of Projects Approved for Collection and Use at a $4.50 PFC Level:

Residential sound insulation: 1998 65 LDN and 2001 65 LDN contours.

Residential sound insulation—runway 14/32 mitigation contour.

Runway 14/32.

Taxiway improvement.

Runway improvements to 4L/22R and 4R/22L.

Reconstruction of aprons and alleyways at terminal B, C, and D.

Security improvements.

Airfield drainage improvement.

Airfield perimeter road improvements.

Brief Description of Project Approved for Collection at a $3.00 PFC Level:

Elevated walkways.

Brief Description of Project Approved for Collection and Use at a $4.50 PFC Level:

Centerfield taxiway.

Decision Date: April 20, 2006.

FOR FURTHER INFORMATION CONTACT: Priscilla Scott, New England Region Airports Division, (781) 238-7614.

Public Agency: Reno-Tahoe Airport Authority, Reno, Nevada.

Application Number: 06-09-C-00-RNO.

Application Type: Impose and use a PFC.

PFC Level: $3.00.

Total PFC Revenue Approved in This Decision: $3,400,000.

Earliest Charge Effective Date: August 1, 2007.

Estimated Charge Expiration Date: January 1, 2008.

Classes of Air Carriers Not Required to Collect PFC's:

(1) Nonscheduled/on-demand air carriers filing FAA Form 1800-31; and (2) Nonscheduled commuters or small certificated air carriers filing Department of transportation Form T-100.

Determination: Approved. Based on information submitted in the public agency's application, the FAA has determined that each proposed class accounts for less than 1 percent of the total annual enplanements at Reno/Tahoe International Airport.

Brief Description of Project Approved for Collection and Use at a $4.50 PFC Level:

Fire alarm system.

Brief Description of Project Approved for Collection and Use at a $3.00 PFC Level:

Public address system.

Decision Date: April 21, 2006.

FOR FURTHER INFORMATION CONTACT: Joe Rodriguez, San Francisco Airports District Office, (650) 876-2778, extension 610.

Public Agency: Decatur Park District, Decatur, Illinois.

Application Number: 06-01-C-00-DEC.

Application Type: Impose and use a PFC.

PFC Level: $4.50.

Total PFC Revenue Approved in This Decision: $732,628.

Earliest Charge Effective Date: June 1, 2006.

Estimated Charge Expiration Date: March 1, 2019.

Class of Air Carriers Not Required to Collect PFC's:

Nonscheduled/on-demand operators filing FAA Form 1800-31.

Determination: Approved. Based on information submitted in the public agency's application, the FAA has determined that the proposed class accounts for less than 1 percent of the total annual enplanements at Decatur Airport.

Brief Description of Projects Approved for Collection and Use:

Runway 30 extension and overlay runway 6/24 and 12/30 intersection.

Instill airfield signage.

Land acquisition parcel 16A.

Land acquisition parcel 17A.

Land acquisition parcel 18A.

Surveying for land acquisition.

Runway 30 extension.

Widen taxiway F to 75 feet.

Rehabilitate terminal apron, phase 1.

Airport layout plan.

Overlay runway 6/24 (partial).

Overlay/widen aircraft rescue and firefighting building pavements.

Rehabilitate terminal apron, phase 2.

Rehabilitate runway 12/30, phase 1.

Rehabilitate runway 12/30, phase 2.

Rehabilitate runway 12/30, phase 3.

Land acquisition, parcel 15.

Land acquisition, parcel 16.

Land acquisition, parcel 35.

Land acquisition, parcel 36.

Decision Date: April 24, 2006.

FOR FURTHER INFORMATION CONTACT: Richard Pur, Chicago Airports District Office, (847) 294-7527.

Public Agency: County of Orange, Santa Ana, California.

Application Number: 06-01-C-00-SNA.

Application Type: Impose and use a PFC.

PFC Level: $4.50.

Total PFC Revenue Approved in This Decision: $321,351,002.

Earliest Charge Effective Date: July 1, 2006.

Estimated Charge Expiration Date: January 1, 2022.

Class of Air Carriers Not Required to Collect PFC's:

Nonscheduled/on-demand air carriers filing FAA Form 1800-31.

Determination: Approved. Based on information submitted in the public agency's application, the FAA has determined that the proposed class accounts for less than 1 percent of the total annual enplanements at John Wayne Airport—Orange County.

Brief Description of Projects Approved for Collection and Use at a $4.50 PFC Level:

In-line baggage screening.

New south remain overnight apron.

Terminal building expansion.

Brief Description of Projects Approved for Collection and Use at a $3.00 PFC Level:

Common use terminal equipment.

PFC application development.

Decision Date: April 25, 2006.

FOR FURTHER INFORMATION CONTACT: George Buley, Western Pacific Region Airports Division, (310) 725-3771.

Public Agency: County of Beltrami and City of Bemidji, Bemidji, Minnesota.

Application Number: 06-03-C-00-BJI.

Application Type: Impose and use a PFC.

PFC Level: $4.50.

Total PFC Revenue Approved in This Decision: $333,711.

Earliest Charge Effective Date: June 1, 2006.

Estimated Charge Expiration Date: May 1, 2008.

Classes of Air Carriers Not Required to Collect PFC's:

(1) Nonscheduled/on-demand air carriers; and (2) commuter or small certificated air carriers.

Determination: Approved. Based on information submitted in the public agency's application, the FAA has determined that each proposed class accounts for less than 1 percent of the total annual enplanements at Bemidji Regional Airport.

Brief Description of Projects Approved for Collection and Use:

PFC application.

Electrical improvements.

Construct drainage ditch.

Access road bituminous overlay.

Snow removal equipment access road.

Glycol containment system.

Pavement condition report.

Design general aviation area.

Pavement crack sealing.

Purchase boom deicing truck.

Environmental study.

Land purchase.

Airport master plan and airport layout plan.

Land purchase (runway 25 approach).

Runway/taxiway reconstruction (runways 7/25 and 13/31, taxiways A and B).

Decision Date: April 26, 2006.

FOR FURTHER INFORMATION CONTACT: Nancy Nistler, Minneapolis Airports District Office, (612) 713-4353.

Amendments to PFC Approvals
Amendment No., city, state | Amendment approved date | Original approved net PFC revenue | Amended approved net PFC revenue | Original estimated charge exp. date | Amended estimated charge exp. date
01-01-C-04-PIT Pittsburgh, PA | 03/29/06 | $99,120,197 | $100,098,648 | 10/01/06 | 10/01/06
04-03-U-01-PIT Pittsburgh, PA | 03/29/06 | NA | NA | 10/01/06 | 10/01/06
04-04-C-01-PIT Pittsburgh, PA | 03/29/06 | 250,136,744 | 251,401,645 | 10/01/17 | 11/01/17
*97-01-C-02-TUS Tucson, AZ | 04/07/06 | 101,234,420 | 100,461,860 | 05/01/15 | 04/01/13
96-02-C-02-BOS Boston, MA | 04/20/06 | 163,037,000 | 0 | 10/01/22 | 02/01/11
*03-03-C-01-RAP Rapid City, SD | 04/20/06 | 1,591,925 | 2,256,111 | 07/01/06 | 05/01/07
*00-04-C-01-ATW Appleton, WI | 04/27/06 | 5,891,467 | 5,891,467 | 03/01/08 | 04/01/08
03-03-C-01-RAP Pittsburgh, PA | 04/20/06 | 250,136,744 | 251,401,645 | 10/01/17 | 11/01/17
Note: The amendments denoted by an asterisk (*) include a change to the PFC level charged from $3.00 per enplaned passenger to $4.50 per enplaned passenger. For Rapid City, SD and Appleton, WI, this change is effective on June 1, 2006. For Tucson, AZ, this change is effective on October 1, 2006.

Issued in Washington, DC on May 4, 2006.
Joe Hebert,
Manager, Financial Analysis and Passenger Facility Charge Branch.

[FR Doc. 06-4328 Filed 5-8-06; 8:45 am]

BILLING CODE 4910-13-M